DEPARTMENT OF TRANSPORTATION

Surface Transportation Board

[STB Docket No. AB-355 (Sub-No. 28X)]

Springfield Terminal Railway Company—Discontinuance of Service Exemption—Manchester and Lawrence Branch, in Essex County, MA and Rockingham and Hillsborough Counties, NH

Springfield Terminal Railway Company (ST) has filed a verified notice of exemption under 49 CFR part 1152 subpart F—Exempt Abandonments and Discontinuances to discontinue service over two portions of a line of railroad, with a combined length of 11.97-miles, known as the Manchester and Lawrence Branch,¹ extending (a) from milepost 1.40 to milepost 7.6 ² and (b) from milepost 20.93 to milepost 26.70 ³ in Essex County, MA, and Rockingham and Hillsborough Counties, NH. The line traverses United States Postal Service Zip Codes 01840, 01841, 01843, 01844, 03079, 03101, 03103, and 03053.

¹ ST acquired its leasehold interest in the line from Boston and Maine Corporation (B&M), an affiliate of ST, in D&H Ry—Lease & Trackage Rights Exemp. Springfield Term., 4 I.C.C.2d 322 (1988). ST states that, prior to the effective date of this discontinuance, title to the line was or will be acquired by third parties.

² B&M was authorized to abandon this portion of the line in Boston and Maine Corporation—Abandonment—in Essex County, MA, and Rockingham County, NH, STB Docket No. AB-32 (Sub-No. 90) (STB served Oct. 3, 2001), and in Boston and Maine Corporation—Abandonment and Discontinuance of Service Exemption—Rockingham and Hillsboro Counties, NY, STB Docket No. AB-32 (Sub-No. 88X) (STB served May 26, 2000).

³ B&M was authorized to abandon this portion of the line in Boston and Maine Corporation—Abandonment Exemption—in Rockingham and Hillsborough Counties, NH, STB Docket No. AB-32 (Sub-No. 87X) (STB served July 2, 1999).

ST has certified that: (1) No local traffic has moved over the line for at least 2 years; (2) there is no overhead traffic on the line; (3) no formal complaint filed by a user of rail service on the line (or by a State or local government entity acting on behalf of such user) regarding cessation of service over the line either is pending with the Surface Transportation Board (Board) or with any U.S. District Court or has been decided in favor of complainant within the 2-year period; and (4) the requirements at 49 CFR 1105.7 (environmental reports), 49 CFR 1105.8 (historic reports), 49 CFR 1105.11 (transmittal letter), 49 CFR 1105.12 (newspaper publication), and 49 CFR 1152.50(d)(1) (notice to governmental agencies) have been met.

As a condition to this exemption, any employee adversely affected by the discontinuance shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on June 26, 2003,⁴ unless stayed pending reconsideration. Petitions to stay that do not involve environmental issues and formal expressions of intent to file an OFA under 49 CFR 1152.27(c)(2),⁵ must be filed by June 6, 2003. Petitions to reopen must be filed by June 16, 2003, with the Surface Transportation Board, 1925 K Street, NW., Washington, DC 20423-0001.

⁴ Because this is a discontinuance proceeding and not an abandonment, trail use/rail banking and public use conditions are not appropriate. Likewise, no environmental or historic documentation is required under 49 CFR 1105.6(c) and 1105.8. Nevertheless, ST filed an environmental report with its notice. The Board's Section of Environmental Analysis (SEA) issued environmental assessments on July 9, 1999, April 7, 2000, and July 18, 2001, in connection with B&M's previously noted abandonment of these segments of the line.

⁵ Each OFA must be accompanied by the filing fee, which currently is set at $1,100. See 49 CFR 1002.2(f)(25).

A copy of any petition filed with the Board should be sent to ST's representative: Katherine E. Potter, Esq., Springfield Terminal Railway Company, Iron Horse Park, North Billerica, MA 01862.

If the verified notice contains false or misleading information, the exemption is void ab initio.

Board decisions and notices are available on our Web site at http://www.stb.dot.gov.

Decided: May 20, 2003.
By the Board, David M. Konschnik, Director, Office of Proceedings.
Vernon A. Williams,
Secretary.

[FR Doc. 03-13147 Filed 5-23-03; 8:45 am]

BILLING CODE 4915-01-P